COMMISSION ON CIVIL RIGHTS

Notice of Public Meetings of the Ohio Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Ohio Advisory Committee (Committee) will hold a series of web based hearings to hear testimony regarding COVID-19 and health disparities in the state.

DATES: The hearings will take place on:

• (Session I) Thursday, July 16, 12 p.m.-1:30 p.m. EST

• (Session II) Thursday, July 23, 12 p.m.-1:30 p.m. EST

Public Call Information: (audio only both sessions) Dial: 800-367-2403; Conference ID: 7997507.

Web Access Information: (visual only both sessions) The online portion of the meeting may be accessed through the following links:

• (Session I) Thursday, July 16, 12 p.m.-1:30 p.m. EST: https://cc.readytalk.com/r/3e7wk7eqxm9g&eom

• (Session II) Thursday, July 23, 12 p.m.-1:30 p.m. EST: https://cc.readytalk.com/r/qimswm0d0zxo&eom

FOR FURTHER INFORMATION CONTACT: Melissa Wojnaroski, DFO, at mwojnaroski@usccr.gov or 202-618-4158.

SUPPLEMENTARY INFORMATION: Members of the public can listen to the discussion. These meetings are free and open to the public through the above listed toll-free number (audio only) and web access links (visual only). Please plan to use both the call-in number and the web access link in order to fully participate in the meeting. Members of the public may join through the above listed toll-free number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be emailed to Carolyn Allen at callen@usccr.gov in the Regional Program Unit Office/Advisory Committee Management Unit. Persons who desire additional information may contact the Regional Program Unit may contact the Regional Programs Unit Office at 202-618-4158.

Records generated from this meeting may be inspected and reproduced at the Regional Programs Unit Office, as they become available, both before and after the meeting. Records of the meeting will be available via https://www.facadatabase.gov/FACA/FACAPublicViewCommitteeDetails?id=a10t0000001gzkGAAQ under the Commission on Civil Rights, Ohio Advisory Committee link. Persons interested in the work of this Committee are also directed to the Commission's website, http://www.usccr.gov, or may contact the Regional Programs Unit office at the above email or phone number.

Agenda

Welcome and Roll Call

Panel Discussion: COVID-19 and health disparities in the state

Public Comment

Adjournment

Dated: June 12, 2020.
David Mussatt,
Supervisory Chief, Regional Programs Unit.

[FR Doc. 2020-13059 Filed 6-16-20; 8:45 am]

BILLING CODE P